NEIGHBORHOOD REINVESTMENT CORPORATION

Sunshine Act Meeting Notice; Finance, Budget & Program; Committee Meeting of the Board of Directors

TIME AND DATE: 2 p.m., Wednesday, May 2, 2012.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call to Order

II. Executive Session

III. Financial Report

IV. Grant Approvals

V. Lease Update

VI. FY '12 Milestone Report/Dashboard

VII. NFMC & EHLP

VIII. Program Updates

IX. Adjournment

Erica Hall,
Assistant Corporate Secretary.

[FR Doc. 2012-9961 Filed 4-20-12; 4:15 pm]

BILLING CODE 7570-02-P